DEPARTMENT OF DEFENSE

Department of the Navy

Privacy Act of 1974; System of Records

AGENCY: Department of the Navy, DoD.

ACTION: Notice to amend systems of records.

SUMMARY: The Department of the Navy is amending nine systems of records notices in its existing inventory of records systems subject to the Privacy Act of 1974, (5 U.S.C. 552a), as amended.

The amendments are required to alert the users of these systems of records of the additional requirements of the Health Insurance Portability and Accountability Act (HIPAA) of 1996, as implemented by DoD 6025.18-R, DoD Health Information Privacy Regulation. Language being added under the ‘Routine Use’ category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: This proposed action will be effective without further notice on July 16, 2003 unless comments are received which result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: June 5, 2003.
Patricia L. Toppings,
Alternate OSD Federal Register Liaison Officer, Department of Defense.

N03461-2

SYSTEM NAME:

POW Follow-up Program (March 2, 1994, 59 FR 9965).

* * * * *

Routine uses of records maintained in the system, including categories of users and the purposes of such uses: Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N03461-2

SYSTEM NAME:

POW Follow-up Program.

System location:

Naval Aerospace Medical Institute, Special Studies Department (25), Naval Air Station, Pensacola, FL 32508-1047.

Categories of individuals covered by the system:

Prisoners of War (POWs) from 1974 to present; matched comparison group consisting of former aviators; some spouses.

Categories of records in the system:

Medical records; X-rays; dental and somatotype photographs; newspaper clippings; research questionnaires, Social Security Number.

AUTHORITY FOR MAINTENANCE OF THE SYSTEM:

5 U.S.C. 301, Departmental Regulations and E.O. 9397 (SSN).

Purpose(s):

To research the effects of the captivity experience on the man and his family and for recommending changes in training and improved health care delivery services, as well as for professional publications.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Files consist of file folders, magnetic and video tapes, key-punched IBM cards, computer tapes, microfiche and microfilm.

Retrievability:

Retrieved by name.

Safeguards:

All files in this system are protected by limited, controlled access, locked doors and class 6 security cabinets. Only professional and/or research staff with appropriate security clearances are given access to files.

Retention and disposal:

Permanent.

SYSTEM MANAGER(S) AND ADDRESS:

Head, POW Data Analysis Division, Naval Aerospace Medical Institute, Naval Air Station, Pensacola, FL 32508-1047.

NOTIFICATION PROCEDURE:

Individuals seeking to determine whether information about themselves is contained in this system should address written inquiries to the Commanding Officer, Naval Aerospace Medical Institute, ATTN: Code 25, Naval Air Station, Pensacola, FL 32508-1047.

Individual should provide full name, military or civilian status, POW status, security clearance, and service affiliation.

Record access procedures:

Individuals seeking access to information about themselves contained in this system should address written inquiries to the Commanding Officer, Naval Aerospace Medical Institute, ATTN: Code 25, Naval Air Station, Pensacola, FL 32508-1047.

Individual should provide full name, military or civilian status, POW status, security clearance, and service affiliation.

Contesting record procedures:

The Navy's rules for accessing records, and for contesting contents and appealing initial agency determinations are published in Secretary of the Navy Instruction 5211.5; 32 CFR part 701; or may be obtained from the system manager.

Record source categories:

Personal interviews with returned POWs and families of POW/MIA/KIA/hostages/civilian POWs; newspapers and periodicals; Department of the Army; Bureau of Medicine and Surgery; and Marine Corps Headquarters.

Exemptions claimed for the system:

None.

N06150-1

SYSTEM NAME:

Medical Department Professional/Technical Personnel Development (February 22, 1993, 58 FR 10789).

Changes

* * * * *

ROUTINE USES OF RECORDS MAINTAINED IN THE SYSTEM, INCLUDING CATEGORIES OF USERS AND THE PURPOSES OF SUCH USES:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06150-1

System name:

Medical Department Professional/Technical Personnel Development.

System location:

Bureau of Medicine and Surgery, Navy Department, Washington, DC 20372-5120; individual's duty station or reserve unit (see Directory of the Department of the Navy Mailing Addresses); Military Sealift Command, Navy Department, Washington, DC 20390; National Personnel Records Center, (Military Personnel Records), 9700 Page Avenue, St. Louis, Missouri 63132; National Personnel Records Center, (Civilian Personnel Records), 111 Winnebago Street, St. Louis, MO 63118; Bureau of Medicine and Surgery managed education and training activities; various colleges and universities affiliated with BUMED managed education and training activities. Official mailing addresses are published as an appendix to the Navy's compilation of systems of records notices.

Categories of individuals covered by the system:

Navy (military and civilian) health care personnel; applicants to student status in Navy Aerospace Medicine, Navy Aerospace Physiology and Navy Aerospace Experimental Psychology; Navy (military and civilian) personnel qualified as divers or involved in other professional/specialty/technical training; Navy (military and civilian) personnel exposed to occupational/environmental hazards; distinguished/noted civilian physicians employed by the Navy in capacity of lecturer/consultant.

Categories of records in the system:

Personnel records, including demographic, medical, and personal data, records of disciplinary, administrative, and credentialing, and punitive actions, curricula vitae of both active-duty and civilian lecturers/consultants.

Authority for maintenance of the system:

5 U.S.C. 301, Departmental Regulations; 10 CFR part 20, Standards for Protection Against Radiation; and E.O. 9397 (SSN).

Purpose(s):

To manage the Bureau of Medicine and Surgery's management of health care personnel, including education and training activities; procurement; assignments planning; professional/specialty/technical training; credentialing; promotional decisions; career development planning; evaluation of candidates for position of lecturer/consultant; mobilization, planning, and verification of reserve service; surgical team contingency planning.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information of adverse actions, including administrative or disciplinary actions or revocations of health care providers' clinical credentials may be disseminated to the various federal and state licensure boards, professional regulating bodies, and appropriate military and civilian organizations and facilities.

The DoD ‘Blanket Routine Uses’ that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Automated records stored on disc, tape, punched cards, and machine listings. Manual records stored in card files and folders in filing cabinets.

Retrievability:

Manual records retrieved by full name, Social Security Number, file numbers, program title or locator card. Automated records retrieved by key to any data field.

Safeguards:

Records maintained in monitored or controlled access rooms or areas; public access to the records is not permitted; computer hardware is located in supervised areas; access is controlled by password or other user code system; utilization reviews ensure that the system is not violated. Access is restricted to personnel having a need for the record in the performance of their duties. Buildings/rooms locked outside regular working hours.

Retention and disposal:

Medical Department personnel professional development and training records; Headquarters, BUMED records—retained at BUMED for duration of member's service, then retired to NPRC, St. Louis for 10 year retention; COMNAVMEDCON field activities—retained 5 years, then destroyed.

Radiation exposure records; personnel exceeding exposure limits—retained at BUMED 50 years, then destroyed; all others—retained 5 years, then destroyed.

Surgical support team records; Headquarters, BUMED—destroyed upon termination of active duty service; BUMED field activities—destroyed upon termination of duty at the Medical Department facility.

Curricular vitae of lecturers/consultants—destroyed upon termination of status at the Medical Department facility.

System manager(s) and address:

Commander, Bureau of Medicine and Surgery, Navy Department, Washington, DC 20372-5120; Director, National Personnel Records Center, (Military Personnel Records), 9700 Page Avenue, St. Louis, MO 63132-5100; Director, National Personnel Records Center, (Civilian Personnel Records), 111 Winnebago Street, St. Louis, MO 63118; Commanding Officers of naval activities, ships and stations.

Notification procedure:

Offices where requester may visit to obtain information of records pertaining to the individual: Potomac Annex, 23rd and E Streets, NW., Washington, DC 20372-5120; Navy medical centers and hospitals; other Navy health care facilities; and BUMED managed education and training facilities.

The individual should present proof of identification such as an I.D. Card, driver's license, or other type of identification bearing signature and photograph.

Written requests may be addressed as follows:

Active duty Navy members or civilian employees presently working for the Navy should address requests to the Commanding Officer of the Facility or ship where they are stationed or employed.

Former members of the Navy should address requests to the Director, National Personnel Records Center, (Military Personnel Records), 9700 Page Avenue, St. Louis, MO 63132-5100.

Former civilian employees of the Navy should address requests to the Director, National Personnel Records Center, (Civilian Personnel Records), 111 Winnebago Street, St. Louis, MO 63118.

All written requests should contain full name, rank, Social Security Number, file number (if any) and designator.

Record access procedures:

Offices where requester may visit to obtain information of records pertaining to the individual: Potomac Annex, 23rd and E Streets, NW., Washington, DC 20372-5120; Navy medical centers and hospitals; other Navy health care facilities; and BUMED managed education and training facilities.

The individual should present proof of identification such as an I.D. Card, driver's license, or other type of identification bearing signature and photograph.

Written requests may be addressed as follows:

Active duty Navy members or civilian employees presently working for the Navy should address requests to the Commanding Officer of the Facility or ship where they are stationed or employed.

Former members of the Navy should address requests to the Director, National Personnel Records Center, (Military Personnel Records), 9700 Page Avenue, St. Louis, MO 63132-5100.

Former civilian employees of the Navy should address requests to the Director, National Personnel Records Center, (Civilian Personnel Records), 111 Winnebago Street, St. Louis, MO 63118.

All written requests should contain full name, rank, Social Security Number, file number (if any) and designator.

Contesting record procedures:

The Navy's rules for accessing records, and for contesting contents and appealing initial agency determinations are published in Secretary of the Navy Instruction 5211.5; 32 CFR part 701; or may be obtained from the system manager.

Record source categories:

Military headquarters, offices and commands; education institutions at training hospitals; boards, colleges and associations of professional licensure and medical specialties; personnel records; information submitted by the individual; automated system interface.

Exemptions claimed for the system:

None.

N06150-2

System name:

Health Care Record System (May 22, 1996, 61 FR 25637).

Changes

* * * * *

ROUTINE USES OF RECORDS MAINTAINED IN THE SYSTEM, INCLUDING CATEGORIES OF USERS AND THE PURPOSES OF SUCH USES:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06150-2

System name:

Health Care Record System.

System location:

Military outpatient health (medical and dental) records of active duty individuals are retained at the member's medical or dental treatment facility. Official mailing addresses are published as an appendix to the Navy's compilation of systems of records notices.

Military outpatient health (medical and dental) records of current reservists are retained by the member's command. Military outpatient health (medical and dental) records of retired and separated individuals are retained at the National Personnel Records Center, 9700 Page Avenue, St. Louis, MO 63132-5100; Naval Reserve Personnel Center, 4400 Dauphine Street, New Orleans, LA 70149-7800; Marine Corps Reserve Support Center, 10905 El Monte, Overland Park, KS 66211-1408; Bureau of Medicine and Surgery, 2300 E Street, Northwest, Washington, DC 20372-5300; or Commandant of the Marine Corps, Headquarters, U.S. Marine Corps, 2 Navy Annex, Washington, DC 20380-0001.

Inpatient health records are retained at the originating naval medical treatment facility (official mailing addresses are published as an appendix to the Navy's compilation of system of records notices); Department of Veterans Affairs Hospitals; other medical treatment facilities such as PRIMUS; National Personnel Records Center (Military), 9700 Page Avenue, St. Louis, MO 63132-5100; National Personnel Records Center (Civilian), 111 Winnebago Street, St. Louis, MO 63118-4199; Naval Reserve Personnel Center, 4400 Dauphine Street, New Orleans, LA 70149-7800; Marine Corps Reserve Support Center, 10950 El Monte, Overland Park, KS 66211-1408; Medical Director, American Red Cross, Washington, DC 20226; Bureau of Medicine and Surgery, 2300 E Street, Northwest, Washington, DC 20372-5300; or Commandant of the Marine Corps, Headquarters, U.S. Marine Corps, 2 Navy Annex, Washington, DC 20380-0001.

Outpatient health (medical and dental) treatment records of civilians are retained at the originating naval medical or dental treatment facility (official mailing addresses are published as an appendix to the Navy's compilation of system of records notices); Department of Veterans Affairs Hospitals; other medical treatment facilities such as PRIMUS; National Personnel Records Center, (Military Personnel Records), 9700 Page Avenue, St. Louis, MO 63132-5100; National Personnel Records Center, (Civilian Personnel Records), 111 Winnebago Street, St. Louis, MO 63118-4199; Medical Director, American Red Cross, Washington, DC 20226; Bureau of Medicine and Surgery, 2300 E Street, Northwest, Washington, DC 20372-5300; or Commandant of the Marine Corps, Headquarters, U.S. Marine Corps, 2 Navy Annex, Washington, DC 20380-0001.

CATEGORIES OF INDIVIDUALS COVERED BY THE SYSTEM:

Navy and Marine Corps personnel, other military personnel, dependents, retired and separated military personnel and dependents, civilian employees, Red Cross personnel, foreign personnel, VA beneficiaries, humanitarian patients, and all other individuals who receive treatment at a Navy medical or dental treatment facility. All commercial insurance carriers with whom the Department of the Navy has filed a claim under the Third Party Payers Act.

CATEGORIES OF RECORDS IN THE SYSTEM:

Outpatient and inpatient health (medical and dental) records contain forms documenting care and treatment. These records contain patient and sponsor demographic data.

Secondary health records contain forms documenting care and treatment at specific departments or clinics.

Subsidiary health records contain information from individual health records and supporting documentation. Examples are: X-ray files; electrocephalogram tracing files; laboratory or secondary treatment record with supporting documentation or they may be based on the files; pharmacy files, social work case files; alcohol rehabilitation files; psychiatric or psychology case files, including psychology files documenting the clinical psychological evaluation of individuals for suitability for certain assignments; nursing care plans; medication and treatment cards, stat/daily orders; patient intake and output forms; ward reports; day books; nursing service reports; pathology and clinical laboratory reports; tumor registries; autopsy reports; laboratory information system (LABIS); blood transfusion reaction records; blood donor and blood donor center records; pharmacy records, surgery records, and vision records and reports; communicable disease case files, statistics, and reports; occupational health, industrial, and environmental control records, statistics, and reports, including data concerning periodic and total lifetime accumulated exposure to occupational/environmental hazards; emergency room and sick call logs; family advocacy case files, statistics, reports, and registers; psychiatric workload statistics and unit evaluations; gynecology malignancy data, etc.

Aviation physical examinations and evaluation case files contain medical records documenting fitness for admission or retention in aviation programs.

Marine Security Guard Battalion psychological examination, evaluation, and treatment case files contain medical records documenting suitability for assignment as Embassy Guards.

Authority for maintenance of the system:

5 U.S.C. 301, Departmental Regulations; 10 U.S.C. 1095, Collection from Third Party Payers Act; 10 U.S.C. 5131 (as amended); 10 U.S.C. 5132; 44 U.S.C. 3101; 10 CFR part 20, Standards for Protection Against Radiation; and E.O. 9397 (SSN).

Purpose(s):

This system is used by officials, employees and contractors of the Department of the Navy (and members of the National Red Cross in naval medical treatment facilities) in the performance of their official duties relating to the health and medical treatment of Navy and Marine Corps members; physical and psychological qualifications and suitability of candidates for various programs; personnel assignment; law enforcement; dental readiness; claims and appeals before the Council of Personnel Boards and the Board for Correction of Naval Records; member's physical fitness for continued naval service; litigation involving medical care; performance of research studies and compilation of statistical data; implementation of preventive medicine programs and occupational health surveillance programs; implementation of communicable disease control programs; and management of the Bureau of Medicine and Surgery's Radiation program and to report data concerning individual's exposure to radiation.

This system is also used for the initiation and processing, including litigation, of affirmative claims against potential third party payers.

This system is used by officials and employees of other components of the Department of Defense in the performance of their official duties relating to the health and medical treatment of those individuals covered by this record system; physical and psychological qualifications and suitability of candidates for various programs; and the performance of research studies and the compilation of medical data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the Department of Veterans Affairs in the performance of their official duties relating to the adjudication of veterans' claims and in providing medical care to Navy and Marine Corps members.

To officials and employees of other departments and agencies of the Executive Branch of Government upon request in the performance of their official duties related to review of the physical qualifications and medical history of applicants and employees who are covered by this record system and for the conduct of research studies.

To private organizations (including educational institutions) and individuals for authorized health research in the interest of the Federal Government and the public. When not considered mandatory, patient identification data shall be eliminated from records used for research studies.

To officials and employees of the National Research Council in cooperative studies of the National History of Disease.

To officials and employees of local and state governments and agencies in the performance of their official duties relating to public health and welfare, communicable disease control, preventive medicine, child and spouse abuse prevention and public safety.

To officials and employees of local and state governments and agencies in the performance of their official duties relating to professional certification, licensing and accreditation of health care providers.

To law enforcement officials to protect the life and welfare of third parties. This release will be limited to necessary information. Consultation with the hospital or regional judge advocate is advised.

To spouses of service members (including reservists) who are infected with the Human Immunodeficiency Virus. This release will be limited to HIV positivity information. Procedures for informing spouses will be published by the Director, Naval Medicine and must be used.

To military and civilian health care providers to further the medical care and treatment of the patient.

To release radiation data per 10 CFR part 20.

To third parties in those cases where the Government is seeking reimbursement under the Third Party Payers Act.

When required by federal statute, by executive order, or by treaty, medical record information will be disclosed to the individual, organization, or government agency, as necessary.

The DoD ‘Blanket Routine Uses’ that appear at the beginning of the Navy's compilation of system of records notices also apply to this system.

Note: Records of identity, diagnosis, prognosis or treatment of any patient which are maintained in connection with the performance of any program or activity relating to substance abuse education, prevention, training, treatment, rehabilitation, or research, which is conducted, regulated, or directly or indirectly assisted by any department or agency of the United States, except as provided in 42 U.S.C. 290dd-2, be confidential and be disclosed only for the purposes and under the circumstances expressly authorized under 42 U.S.C. 290dd-2. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

STORAGE:

Primary, secondary, and subsidiary medical health records are stored in file folders, microform, on magnetic tape, personal computers, machine listings, discs, and other computerized or machine readable media.

Retrievability:

Military health (medical and dental) treatment records are filed and maintained by the last four digits of the military member's Social Security Number, the member's last name, or the member's Social Security Number. A locator case file cross-references the patient's name with the location of his/her record.

Inpatient (clinical) health records are filed and maintained by the last four digits of the sponsor's Social Security Number or a register number. A manual or automatic register of patients is kept at each Navy medical treatment facility. The location of the file can be determined by a seven-digit register number or the patient's name.

Outpatient (medical and dental) health records are filed and maintained by the sponsor's Social Security Number or date of birth, relationship to the sponsor, and name. A locator file cross-references the patient's name with the location of his/her record.

Treatment records retired to a Federal Records Center prior to 1971 are retrieved by the name and service number or file number. After that date, records are retrieved by name and Social Security Number.

Aviation medical records are filed and maintained by Social Security Number and name.

Marine Security Guard Battalion psychological examination, evaluation, and treatment case files contain medical records documenting fitness for assignment as Embassy Guards and are filed and maintained by Social Security Number and name. Subsidiary health care records may or may not be identified by patient identifier. When they are, they may be retrieved by name and Social Security Number.

Safeguards:

Records are maintained in various kinds of filing equipment in specific monitored or controlled access rooms or areas; public access is not permitted. Computer terminals are located in supervised areas. Access is controlled by password or other user code system. Utilization reviews ensure that the system is not violated. Access is restricted to personnel having a need for the record in providing further medical care or in support of administrative/clerical functions. Records are controlled by a charge-out system to clinical and other authorized personnel.

Retention and disposal

Health care records are retained, retired, and disposed of in accordance with Secretary of the Navy Instruction 5215.5 (Disposal of Navy Marine Corps Records) and Bureau of Medicine and Surgery Instruction 6150.1 (Health Care Treatment Records). Specifics are given below:

Military health (medical and dental) records are transferred with the member upon permanent change of duty station to his/her new duty station. These records are retired to the National Personnel Records Center, (Military Personnel Records), 9700 Page Avenue, St. Louis, MO 63132-5100; Naval Reserve Personnel Center, 4400 Dauphine Street, New Orleans, LA 70149-7800; and Marine Corps Reserve Support Center, 10950 El Monte, Overland Park, KS 66211-1408.

Inpatient health records are transferred to the National Personnel Records Center, (Military Personnel Records), 9700 Page Avenue, St. Louis, MO 63132-5100 or to the National Personnel Records Center, (Civilian Personnel Records), 111 Winnebago Street, St. Louis, MO 63118-4199, two years after the calendar year of the last date of treatment.

Outpatient health records of civilians are transferred to the National Personnel Records Center, (Military Personnel Records), 9700 Page Avenue, St. Louis, MO 63132-5100 or to the National Personnel Records Center, (Civilian Personnel Records), 111 Winnebago Street, St. Louis, MO 63118-4199, two years after the calendar year of the last date of treatment.

X-ray files are retained on-site and destroyed three years after the last x-ray in the file. Asbestos x-rays are retained on site indefinitely.

Secondary health records may be retained separate from the health record. A notation is made in the health record that these records exist and where they are being kept. When the health record is retired or the patient transfers, these records should be entered in the health record.

Aviation medical records are retained at the activity and destroyed when 30 years old.

Marine Security Guard Battalion psychological examination, evaluation, and treatment case files containing medical records documenting fitness for assignment as Embassy Guards are retained at the activity and destroyed after 50 years.

Clinical psychology case files documenting suitability for special assignment will be retained at the originating medical treatment facility and destroyed when 50 years old.

Radiation exposure records for personnel are maintained indefinitely in the health record, and in a centralized exposure registry held by the Navy Environmental Health Center Detachment, Naval Dosimetry Center, Bethesda, MD 20889-5614.

System manager(s) and address:

Service medical (health and dental) records for active and reserve, Navy and Marine Corps: Chief, Bureau of Medicine and Surgery, 2300 E Street, Northwest, Washington, DC 20372-5300; Commanding Officers, Naval Activities, Ships and Stations; and, Director, National Personnel Records Center, Military Personnel Records, 9700 Page Avenue, St. Louis, MO 63132-5100. Official mailing addresses are published as an appendix to the Navy's compilation of system of record notices.

Inpatient and outpatient treatment records: Chief, Bureau of Medicine and Surgery, 2300 E Street, Northwest, Washington, DC 20372-5300; Commanding Officers and Officers-in-Charge of naval medical treatment facilities; and, Director, National Personnel Records Center, Military Personnel Records, 9700 Page Avenue, St. Louis, MO 63132-5100. Official mailing addresses are published as an appendix to the Navy's compilation of system of record notices.

Notification procedure:

Active duty Navy and Marine Corps personnel and drilling members of the Navy and Marine Corps Reserves seeking to determine whether this system of records contains information about themselves should address written inquiries to the originating medical or dental treatment facility. Official mailing addresses are published as an appendix to the Navy's compilation of system of record notices.

Inactive Naval Reservists should address requests for information to the Naval Reserve Personnel Center, 4400 Dauphine Street, New Orleans, LA 70149-7800. Marine Reservists should address requests for information to Marine Corps Reserve Support Center, 10950 El Monte, Overland Park, KS 66211-1408. Former members who have no further reserve or active duty obligations should address requests for information to the Director, National Personnel Records Center, (Military Personnel Records), 9700 Page Avenue, St. Louis, MO 63132-5100.

All written requests should contain the full name and Social Security Number of the individual, his/her signature, and in those cases where his/her period of service ended before 1971, his/her service or file number. In requesting records for personnel who served before 1964, information provided to the National Personnel Records Center should also include date and place of birth and dates of periods of active Naval service.

Records may be requested in person. Proof of identification will consist of the Armed Forces Identification Card or by other types of identification bearing picture and signature.

Requests for inpatient records within two years of inpatient stay should be addressed to the Commanding Officer of the hospital where the individual was treated.

Requests for inpatient records after two years after inpatient stay should be addressed to the Director, National Personnel Records Center, (Civilian Personnel Records), 111 Winnebago Street, St. Louis, MO 63118-4199 or to the Director, National Personnel Records Center, (Military Personnel Records), 9700 Page Avenue, St. Louis, MO 63132-5100.

Requests for subsidiary medical records should be addressed to the Commanding Officer of medical or dental center where treatment was received.

The following data should be provided: Full name, Social Security Number, status, date(s) of treatment or period of hospitalization, address at time of medical treatment, and service number.

Full name, date, and place of birth, I.D. card or driver's license, or other identification to sufficiently identify the individual with the medical records held by the treatment facility must be presented.

Record access procedures:

Individuals seeking access to record about themselves contained in this system of records should address written inquiries to the medical or dental treatment facility where treatment was received or to the officials listed under ‘Notification procedure’.

Contesting record procedures:

The Navy's rules for accessing records, and for contesting contents and appealing initial agency determinations are published in Secretary of the Navy Instruction 5211.5; 32 CFR part 701; or may be obtained from the system manager.

Record source categories:

Reports from attending and previous physicians and other medical personnel regarding the results of physical, dental, and mental examinations, treatment, evaluation, consultation, laboratory, x-rays, and special studies conducted to provide health care to the individual or to determine the individual's physical and dental qualification.

Exemptions claimed for the system:

None.

N06150-3

System name:

Naval Health/Dental Research Center Data File (February 22, 1993, 58 FR 10793).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06150-3

System Name:

Naval Health/Dental Research Center Data File.

System location:

Naval Medical Research and Development Command, Naval Medical Research Institute and/or Naval Dental Research Institute to which individual is assigned. Official mailing addresses are published as an appendix to the Navy's compilation of systems of records notices.

Categories of individuals covered by the system:

For medical: Navy and Marine Corps personnel on active duty since 1960 to date. Civilians taking part in Operation Deep Freeze, 1964 to date.

For dental: Navy and Marine Corps personnel on active duty since 1967 to date.

Categories of records in the system:

Extracts of information from official medical/dental and personnel records, results of dental examinations conducted by staff research scientists, as well as information dealing with biographical, attitudes, and questions relating to medical and dental health patterns during active service or prior to active duty.

Authority for maintenance of the system:

10 U.S.C. 5013 and E.O. 9397 (SSN).

Purpose(s):

To research, monitor and analyze the types and frequency of medical and dental diseases and illnesses in Navy and Marine Corps personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and DISPOSING OF RECORDS in the system:

STORAGE:

Files are maintained on magnetic tape, flexible and hard disks, paper files, punch cards and optically marked cards.

Retrievability:

Retrievability is by Social Security Number or service number as appropriate for military and former military personnel. Civilians are by name only.

Safeguards:

Access is restricted to personnel having a need to work with the research data stored. Access is controlled by password for health records stored on magnetic tape. Computerized dental research records contain I.D. numbers that can be matched to Social Security Number's on code sheets maintained by research personnel.

Retention and Disposal:

Research records are permanent. They are maintained for five years at the activity performing the research and then retired to the Federal Records Center, St. Louis, MO.

System manager(s) and address:

Commanding Officer of the activity in question. Official mailing addresses are published as an appendix to the Navy's compilation of systems of records notices.

Notification procedure:

Individuals seeking to determine whether information about themselves is contained in this system should address written inquiries to the Commanding Officer of the activity in question. Official mailing addresses are published as an appendix to the Navy's compilation of systems of records notices.

Navy and Marine Corps personnel and former serving members must provide a Social Security Number or service number as appropriate, give the branch of service, and years of active duty. Civilians in Operation Deep Freeze must identify themselves by full name and the year in which they wintered over.

Record access procedures:

Individuals seeking access to information about themselves contained in this system should address written inquiries to the Commanding Officer of the activity in question. Official mailing addresses are published as an appendix to the Navy's compilation of systems of records notices.

Navy and Marine Corps personnel and former serving members must provide a Social Security Number or service number as appropriate, give the branch of service, and years of active duty. Civilians in Operation Deep Freeze must identify themselves by full name and the year in which they wintered over.

Contesting record procedures:

The Navy's rules for accessing records, and for contesting contents and appealing initial agency determinations are published in Secretary of the Navy Instruction 5211.5; 32 CFR part 701; or may be obtained from the system manager.

Record source categories:

Information is derived from (a) Medical Treatment Record Systems, including medical, dental, health records, inpatient treatment records and outpatient treatment records, (b) Personnel Records System and Personnel Rehabilitation Support System, (c) Enlisted Master File, (d) information provided by the members themselves on a volunteer basis in response to specific research questionnaires and forms, and (e) information provided by the members' peers and superiors.

Exemptions claimed for the system:

None.

N06150-4

System name:

DoD Birth Defects Registry (December 1, 2000, 65 FR 75258).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06150-4

SYSTEM NAME:

DoD Birth Defects Registry.

System location:

Naval Health Research Center, Emerging Illness Division, P.O. Box 85122, San Diego, CA 92186-5122.

Categories of individuals covered by the system:

DoD beneficiary infants born in both military and civilian medical facilities beginning October 1, 1993, and their parents.

Categories of records in the system:

Demographic data and health data potentially related to a birth defect.

Authority for maintenance of the system:

10 U.S.C. 131, Office of the Secretary of Defense; 10 U.S.C. 136, Under Secretary of Defense for Personnel and Readiness; 10 U.S.C. 2358, Research and Development Projects; E.O. 9397 (SSN); and OASD/HA Policy for National Surveillance for Birth Defects Among Department of Defense (DoD) Health Care Beneficiaries Clinical Policy 99-006 dated November 17, 1998.

Purpose(s):

To determine those birth defects that are most common within this population; to provide information regarding increases, if any, in the incidence of specific malformations; to compare rates stratified by beneficiary status (military or dependent) and among active-duty personnel, by occupation; to identify geographical or military service-related areas of reproductive concern for cluster analysis; to identify any correlation of rates of defects with changing trends in cultural, social, and environmental factors; and to provide a data repository that future investigators and policy makers might use to study militarily important birth defects hypotheses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Social Security Administration (SSA) for considering individual claims for benefits for which SSA is responsible.

To the Department of Veterans Affairs (DVA) for considering individual claims for benefits for which that DVA is responsible, and for use in scientific, medical and other analysis regarding reproductive outcomes research associated with military service.

To the Department of Health and Human Services, Centers for Disease Control and Prevention and state birth defect registries for use in scientific, medical and other analysis regarding reproductive outcomes research associated with military service.

The DoD ‘Blanket Routine Uses’ that appear at the beginning of the Navy's compilation of systems notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records in the System:

Storage:

Computerized and paper records.

Retrievability:

Name and Social Security Number.

Safeguards:

Access provided on a need-to-know basis only. Computerized information is password protected and maintained is a locked and/or guarded office.

Retention and disposal:

Records are destroyed when three years old or discontinuance of function, whichever is earlier.

System manager(s) and address:

Policy Official: Chief, Bureau of Medicine and Surgery, 2300 E Street, NW., Washington, DC 20372-5300.

System manager: Commanding officer of the activity in question. Official mailing addresses are published as an appendix to the Navy's compilation of systems of records notices.

Notification procedure:

Individuals seeking to determine whether this system of records contains information about themselves should address written inquiries to the commanding officer of the activity where assigned.

The request should contain full name, Social Security Number, and must be signed.

Record access procedures:

Individuals seeking access to records contained in this system of records should address written inquiries to the commanding officer of the activity where assigned.

The request should contain full name, Social Security Number, and must be signed.

Contesting record procedures:

The Navy's rules for accessing records, and for contesting contents and appealing initial agency determinations are published in Secretary of the Navy Instruction 5211.5; 32 CFR part 701; or may be obtained from the system manager.

Record source categories:

Individual, American Red Cross, blood donors, hospitals, persons seeking replacement of blood.

Exemptions claimed for the system:

None.

N06150-5

System name:

Millennium Cohort Study (August 17, 2001, 66 FR 43237).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06150-5

System name:

Millennium Cohort Study.

System location:

Naval Health Research Center, Emerging Illness Division, P.O. Box 85122, San Diego CA 92186-5122.

Categories of individuals covered by the system:

An initial probability-based, cross-sectional sample of 100,000 U.S. Armed Forces personnel (active duty Army, Navy, Marine Corps, and Coast Guard and reserve/National Guard), as of October 2000, that will be followed prospectively by postal surveys every 3 years over a 21-year period. The initial sample of 100,000 persons will be comprised of 30,000 individuals who have been deployed to Southwest Asia, Bosnia, or Kosovo since August 1997, and 70,000 individuals who have not been deployed to these conflicts. In October 2004 and October 2007, a random sample of 20,000 new Armed Forces personnel will be added to the cohort. The total of 140,000 individuals will be followed until the year 2022.

Categories of records in the system:

Demographic data, such as name, Social Security Number, rank, grade, gender, military occupational specialty. Health data, such as self-reported medical conditions and symptoms, smoking and drinking behaviors. Validated instruments will be incorporated to capture self-assessed physical and mental functional status (Short Form-36 Veterans), psychosocial assessment (Patient Health Questionnaire), and posttraumatic stress disorder (Patient Checklist-17).

Information obtained from the survey responses will be supplemented with deployment, occupational, vaccination, and healthcare utilization data) related to individual health status.

Authority for maintenance of the system:

5 U.S.C. 301, Departmental Regulations; 10 U.S.C. 136, Under Secretary of Defense for Personnel and Readiness; and E.O. 9397 (SSN); DoD Protocol Number 32227; Sec 743, National Defense Authorization Act for Fiscal Year 1999; Sec 735, National Defense Appropriations Act for Fiscal Year 2001; Defense Technology Objective MD.25 Deployed Force Health Protection: Predicting Warfighter Resilience.

Purpose(s):

To create a probability-based, cross sectional database of selected veterans who have, or have not, deployed overseas so that various longitudinal health and research studies may be conducted over a 21 year period. The database will be used:

a. To systematically collect population-based demographic and health data to evaluate the health of Armed Forces personnel throughout their careers and after leaving service.

b. To evaluate the impact of operational deployments on various measures of health over time including medically unexplained symptoms and chronic diseases such as cancer, heart disease and diabetes.

c. To serve as a foundation upon which other routinely captured medical and deployment data may be added to answer future questions regarding the health risks of operational deployment, occupations, and general service in the Armed Forces.

d. To examine characteristics of service in the Armed Forces associated with common clinician-diagnosed diseases and with scores on several standardized self-reported health inventories for physical and psychological functional status.

e. To provide a data repository and available representative Armed Forces cohort that future investigators and policy makers might use to study important aspects of service in the Armed Forces including disease outcomes among a Armed Forces cohort.

In addition to revealing changes in veterans' health status over time, the Millennium Cohort Study will serve as a data repository, providing a solid foundation upon which additional epidemiological studies may be constructed.

Routine uses of records maintained in the system, including categories of users and the purposes of such uses:

In addition to those disclosures generally permitted under 5 U.S.C. 552a(b) of the Privacy Act, these records or information contained therein may specifically be disclosed outside the DoD as a routine use pursuant to 5 U.S.C. 522a(b)(3):

To the Department of Veterans Affairs (DVA) for (1) considering individual claims for benefits for which that DVA is responsible; and (2) for use in scientific, medical and other analysis regarding health outcomes research associated with military service.

To the Department of Health and Human Services, Centers for Disease Control and Prevention for use in scientific, medical and other analysis regarding health outcome research associated with military service.

Note: All disclosures to the DVA and HHS must have prior approval of the Naval Health Research Center Institutional Review Board and a Memorandum of Understanding must be entered into to ensure the right and obligations of the signatories are clear. Access to data (1) is provided on need-to-know basis only; (2) must adhere to the rule of minimization in that only information necessary to accomplish the purpose for which the disclosure is being made is releasable; and (3) must follow strict guidelines established in the data sharing agreement.

To the Social Security Administration (SSA) for considering individual claims for benefits for which that SSA is responsible.

The DoD “Blanket Routine Uses” that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Automated databases; electronic records are stored on magnetic media.

Retrievability:

Records are retrieved by military service member's name and Social Security Number.

Safeguards:

Access to areas where records are maintained is limited to authorized personnel. Access control devices protect areas during working hours and intrusion alarm devices during non-duty hours. Access to data is provided on need-to-know basis only. Password or other user code controls access to data.

Retention and disposal:

Disposition pending (until the National Archives and Records Administration has approved the retention and disposition schedule for these records, treat then as permanent.

System manager(s) and address:

Policy Official: Commanding Officer, Naval Health Research Center, Box 85122, San Diego, CA 92186-5122.

Record Holder: Senior Investigator, The Millennium Cohort Study, Naval Health Research Center, Emerging Illness Division, P.O. Box 85122, San Diego, CA 92186-5122

Notification procedure:

Individuals seeking to determine whether information about themselves is contained in this system should address written inquiries to the Senior Investigator, The Millennium Cohort Study, Naval Health Research Center, Emerging Illness Division, P.O. Box 85122, San Diego, CA 92186-5122.

The request should contain the service member's name and Social Security Number and must be signed by the service member requesting the information.

Record access procedures:

Individuals seeking access to information about themselves contained in this system should address written inquiries to the Senior Investigator, The Millennium Cohort Study, Naval Health Research Center, Emerging Illness Division, PO Box 85122, San Diego, CA 92186-5122.

The request should contain the service member's name and Social Security Number and must be signed by the service member requesting the information.

Contesting record procedures:

The Navy's rules for accessing records, and for contesting contents and appealing initial agency determinations are published in Secretary of the Navy Instruction 5211.5; 32 CFR part 701; or may be obtained from the system manager.

Record source categories:

Individual participant survey instruments; Composite Health Care System; Corporate Executive Information Systems; Defense Manpower Data Center; Defense Enrollment Eligibility Reporting System; Civilian Health and Medical Program of the Uniformed Services; survey research instruments and health research records at Naval Medical Center, San Diego; and individual physical exams and biological specimens.

Exemptions claimed for the system:

None.

N06320-1

System name:

Health Care Accounts and Insurance Information (February 22, 1993, 58 FR 10794).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06320-1

System name:

Health Care Accounts and Insurance Information.

System location:

Primary System is located at the Bureau of Medicine and Surgery, 2300 E Street, NW., Washington, DC 20372-5300.

Decentralized Segments are located at the Naval Hospitals and Medical Clinics which provide services or perform work giving rise to such accounts receivable. Official mailing addresses are published as an appendix to the Navy's compilation of system of record notices.

Categories of individuals covered by the system:

Any individual receiving health care treatment or examination services funded by the Navy Medical Department. Coverage also includes sponsors and other persons responsible for the debts of such persons. All commercial insurance carriers with whom the Department of the Navy has filed a claim under the Third Party Payers Act.

Categories of records in the system:

Individual's name and Social Security Number, sponsor's Social Security Number, if applicable, pay grade, branch of service of service, duty station address, account number, activity performing service, patient's insurance information, civilian employer, patient category, time and dates of service, units of service, physicians' and hospitals' statements of service a total charges for treatment including interest, administrative and penalty charges, payment receipts, admission documents, correspondence relating to collection attempts to ascertain eligibility status, patient category, and third party insurer liability, records of payment received and outstanding balances, letter reports of uncollectible accounts receivable, records suspending or terminating collection action or effecting compromise settlement agreements, and requests for recovery of CHAMPUS funds and substantiating documents.

Authority for maintenance of the system:

31 U.S.C. 191-195, 227, and 952 (also known as the Federal Claims Collection Act of 1966); 10 U.S.C. 1078-1079 and 1095; 37 U.S.C. 702, 705, and 1007; E.O. 9397 (SSN); and, 10 U.S.C. 1095, Collection From Third Party Payers Act.

Purpose(s):

To identify and facilitate payment of amounts owed the U.S. Users of the information include Bureau of Medicine and Surgery personnel who are directly involved in processing payments or billings of patient accounts. The information is used to determine amounts owed, methods to be employed to effect recovery, whether or not the claim can be compromised or collection action thereon terminated or suspended.

To determine amounts owed by third party health insurers, and to collect charges for utility bills and other miscellaneous items. File may be forwarded to the Naval Criminal Investigative Service for investigation or to any component of DOD, as needed, in the performance of their duties related to same.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To third parties in those cases where the Government is seeking reimbursement under the Third Party Payers Act.

The DoD ‘Blanket Routine Uses’ that appear at the beginning of the Navy's compilation of systems notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Disclosure to consumer reporting agencies:

Disclosure pursuant to 5 U.S.C. 552a(b)(12) may be made from this system to consumer reporting agencies as defined in the Fair Credit Reporting Act of 1966 (15 U.S.C. 1681a(f)) or the Federal Claims Collection Act of 1966 (31 U.S.C. 3701(a)(3)). The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Automated records stored on disc, tape, punched cards, and machine listings. Manual records stored on index cards (3x5) in card files and in file folders and reading files.

Retrievability:

Automated records are retrieved by either a query or a request for a standard report. Data may be indexed by any data element although the primary search keys are name and Social Security Number. Paper records are filed alphabetically by last name of debtor.

Safeguards:

Access to the automated system requires user account number and password sign on. Access to the paper records and/or terminals are limited to authorized personnel that are properly screened and trained. Office space where records and/or terminals are located is locked after official working hours.

RETENTION AND DISPOSAL:

Records are retained in active file until collection action has been completed, compromised, suspended, or terminated. They are held in inactive file until statute of limitations has run and then destroyed.

System manager(s) and address:

Chief, Bureau of Medicine and Surgery, 2300 E Street, NW., Washington, DC 20372-5300, and Commanding Officers of Medical Treatment Facilities. Official mailing addresses are published as an appendix to Navy's compilation of system of record notices.

Notification procedure:

Individuals seeking to determine whether this system of records contains information about themselves should address written inquiries to the Chief, Bureau of Medicine and Surgery, 2300 E Street, NW., Washington, DC 20372-5300 or to the Commanding Officer of the Medical Treatment Facility where treatment was received. Requests should provide the full name of the patient and sponsor, the military or dependency status of the patient and sponsor, and the location and approximate dates of treatment or examination. Driver's license and/or military I.D. card will be considered adequate proof of identity.

Record access procedures:

Individuals seeking access to records about themselves contained in this system of records should address written inquiries to the Chief, Bureau of Medicine and Surgery, 2300 E Street, NW., Washington, DC 20372-5300 or to the Commanding Officer of the Medical Treatment Facility where treatment was received. Requests should provide the full name of the patient and sponsor, the military or dependency status of the patient and sponsor, and the location and approximate dates of treatment or examination. Driver's license and/or military I.D. card will be considered adequate proof of identity.

Contesting record procedures:

The Navy's rules for accessing records, and for contesting contents and appealing initial agency determinations are published in Secretary of the Navy Instruction 5211.5; 32 CFR part 701; or may be obtained from the system manager.

Record source categories:

Automated patient administration system records produced at Medical Treatment Facilities include but are not limited to Inpatient Admission/Disposition Records, NAVMEDCOM 6300/5; Report of Treatment Furnished Pay, Patients-Hospitalization/Outpatient Treatment Furnished, DOD 7/7A, Part A/B. Other record source categories are: OCHAMPUS, Denver; U.S. Postal Service; Military Locator Service; State Departments of Motor Vehicles; any component of the DOD; the Department of Justice, the General Accounting Office, retail credit associations, financial institutions, current or previous employers, educational institutions, trade associations, automated system interfaces, local law enforcement agencies, the Department of Health and Human Services, the Internal Revenue Service, and the Office of Personnel Management.

Exemptions claimed for the system:

None.

N06320-3

System name:

Quality Assurance/Risk Management (February 22, 1993, 58 FR 10797).

Changes:

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

N06320-3

System name:

Quality Assurance/Risk Management.

System location:

Bureau of Medicine and Surgery, Navy Department, Washington, DC 20372-5300; health care treatment facilities. Official mailing addresses are published as an appendix to the Navy's compilation of record system notices.

Categories of individuals covered by the system:

Naval Military health care providers including active duty, reserve, retired, and separated personnel; Naval civilian health care providers including government employees, volunteers, and contractors.

Categories of records in the system:

Credentialing records including Individual Credentials Files, Clinical Activity Files, Clinical Performance Profiles, Performance Appraisal Reports and other records including administrative and disciplinary proceedings; records of current and past employment and/or assignment, current and past clinical privileges, qualifications and performance, peer review records, Internal Review records, statements of physical and mental health.

Authority for maintenance of the system:

5 U.S.C. 301, Departmental Regulations; 10 U.S.C. 1102 and 5132; and E.O. 9397 (SSN).

Purpose(s):

This system relates to the Bureau of Medicine and Surgery's Quality Assurance/Risk Management Program. It is used to review the quality and appropriateness of are provided to patients; investigate analyze, and report accidents, injuries, and other incidents which may be related to patient care or safety; to identify health care providers with known or suspected deficiencies or impairments which may affect patient care or safety or be the subject of professional negligence claims.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

With the exception of the subject of a quality assurance act, the identify of any person receiving health care services from the Department of Defense of the identify of any other person associated with the department for purposes of a medical quality assurance program that is disclosed in a medical quality assurance record shall be deleted from that record or document before any disclosure of such record is made outside the Department of Defense. Such requirement does not apply to the release of information pursuant to the Privacy Act of 1974, as amended (5 U.S.C. 552a).

Medical quality assurance record (10 U.S.C. 1102) described herein may not be made available to any person under the Freedom of Information Act (5 U.S.C. 552).

QUALITY ASSURANCE RECORDS MAY BE DISCLOSED:

To a Federal executive agency or private organization, if such medical quality assurance record or testimony is needed by such agency or organization to perform licensing or accreditation functions related to Department of Defense health care facilities or to perform monitoring, required by law, or Department of Defense Health care facilities.

To an administrative or judicial proceeding commenced by a present or former Department of Defense health care provider concerning the termination, suspension, or limitation of clinical privileges of such health care provider.

To a governmental board or agency or to a professional health care society of organization, is such medical quality assurance record or testimony is needed by such board, agency, society, or organization to perform licensing, credentialing, or the monitoring of professional standards with respect to any health care provider who is a or was a member of an employee of the Department of Defense.

To a hospital, medical care center, or other institution that provides health care services, if such medical quality assurance record or testimony is needed by such institution to assess the professional qualifications of any health care provider who is or was a member or employee of the Department of Defense and who has applied for or been granted authority or employment to provide health care services in or on behalf of such institutions.

To an officer, employee, or contractor of the Department of Defense who has a need for such record or testimony to perform official duties.

To a criminal or civil law enforcement agency or instrumentality charged under applicable law with the protection of the public health or safety, if a qualified representative of such agency or instrumentality makes a written request that such record of testimony be provided for a purpose authorized by law.

In an administrative or judicial proceeding commenced by a criminal or civil law enforcement agency or instrumentality referred to in the above paragraph, but only with respect to the subject of such proceeding.

The DoD ‘Blanket Routine Uses’ that appear at the beginning of the Navy's compilation of systems notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Records are maintained on hard copy forms in filing cabinets.

Retrievability:

Records are retrieved by full name or Social Security Number of health care provider, or other alpha/numeric identifier.

Safeguards:

Files are monitored during normal working hours by authorized personnel and the room or the files are locked at all other times.

Retention and disposal:

Records are retained at the command to which the health care provider is assigned and are transferred to the provider's new command upon transfer. When health care providers leave the health care system, the Individual Credentials Files are ordinarily retained at a provider's last command for 10 years and then destroyed. If the provider's Individual Credentials File contains a permanent adverse privileging action or an investigation of criminal misconduct, the original is forwarded to BUMED for the 10 year retention period and then permanently archived. Performance Appraisal Reports and associated documents are retained at each command to which a provider is assigned for 10 years after the provider leaves the facility and then destroyed.

System manager(s) and address:

Chief, Bureau of Medicine and Surgery, Navy Department, Washington, DC 20372-5300. Commanding officers or Officers in charge of Navy Medical Department health care treatment facilities. Official mailing addresses are published as an appendix to the Navy's compilation of systems of records notices.

Notification procedure:

Individuals seeking to determine whether this system of records contains information about themselves should address written inquiries to the naval medical facility where the treatment was received or to the Chief, Bureau of Medicine and Surgery. Requests should contain the full name, Social Security Number, and signature of the individual. The individual may also visit BUMED or the health care treatment facility. Visitors must possess proof of identification such as I.D. card, driver's license, or other identification showing name and a recent photograph of the individual.

Record access procedures:

Individuals seeking access to records about themselves contained in this system of records should address written inquiries to the naval medical facility where the treatment was received or to the Chief, Bureau of Medicine and Surgery. Requests should contain the full name, Social Security Number, and signature of the individual. The individual may also visit BUMED or the health care treatment facility. Visitors must possess proof of identification such as I.D. card, driver's license, or other identification showing name and a recent photograph of the individual.

Contesting record procedures:

The Navy's rules for accessing records, and for contesting contents and appealing initial agency determinations are published in Secretary of the Navy Instruction 5211.5; 32 CFR part 701; or may be obtained from the system manager.

Record source categories:

Incident reports relating to patients, staff, and other personnel documenting accidents, injuries, and other incidents, together with supportive correspondence and statements including statistical display and summaries.

Exemptions claimed for the system:

None.

N06320-4

System name:

Blood Donor Files (September 9, 1996, 61 FR 47483).

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

N06320-4

System name:

Blood Donor Files.

System location:

Organizational elements of the Department of the Navy. Official mailing addresses are published as an appendix to the Navy's compilation of systems of records notices.

Categories of individuals covered by the system:

Personnel donating blood or seeking replacement of blood.

Categories of records in the system:

Blood donation and blood replacement requirement records.

Authority for maintenance of the system:

5 U.S.C. 301, Departmental Regulations; 21 U.S.C. 600-799; and E.O. 9397 (SSN).

Purpose(s):

To record emergency blood requests by blood type, identify donors, replace blood provided to cover individuals, and to meet regulatory requirements imposed by the Food and Drug Administration.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Computerized and paper records.

Retrievability:

Name and Social Security Number.

Safeguards:

Access provided on a need-to-know basis only. Computerized information is password protected and maintained is a locked and/or guarded office.

Retention and disposal:

Records are destroyed when three years old or discontinuance of function, whichever is earlier.

System manager(s) and address:

Policy Official: Chief, Bureau of Medicine and Surgery, 2300 E Street, NW., Washington, DC 20372-5300.

System manager: Commanding officer of the activity in question. Official mailing addresses are published as an appendix to the Navy's compilation of systems of records notices.

Notification procedure:

Individuals seeking to determine whether this system of records contains information about themselves should address written inquiries to the commanding officer of the activity where assigned.

The request should contain full name, Social Security Number, and must be signed.

Record access procedures:

Individuals seeking access to records contained in this system of records should address written inquiries to the commanding officer of the activity where assigned.

The request should contain full name, Social Security Number, and must be signed.

Contesting record procedures:

The Navy's rules for accessing records, and for contesting contents and appealing initial agency determinations are published in Secretary of the Navy Instruction 5211.5; 32 CFR part 701; or may be obtained from the system manager.

Record source categories:

Individual, American Red Cross, blood donors, hospitals, persons seeking replacement of blood.

Exemptions claimed for the system:

None.

[FR Doc. 03-15048 Filed 6-13-03; 8:45 am]

BILLING CODE 5001-08-U